DEPARTMENT OF THE INTERIOR

Bureau of Reclamation

Notice of Intent To Prepare an Environmental Impact Statement on the Pojoaque Basin Regional Water System, Santa Fe County, NM

AGENCY: Bureau of Reclamation, Interior.

ACTION: Notice of intent.

SUMMARY: The Bureau of Reclamation (Reclamation) intends to prepare an environmental impact statement (EIS) on the Pojoaque Basin Regional Water System. Reclamation will serve as the lead Federal agency. The U.S. Army Corp of Engineers, Bureau of Indian Affairs, U.S. Fish and Wildlife Service, New Mexico Interstate Stream Commission, New Mexico Office of the State Engineer, County of Santa Fe, and the Pueblos of Nambé, Pojoaque, San Ildefonso, and Tesuque will be invited to participate as cooperating agencies for the EIS. Other entities will be considered as necessary during the EIS process.

The proposed Pojoaque Basin Regional Water System will divert, treat, and distribute potable water to the Pueblo and non-Pueblo residents of the Pojoaque Basin. The Regional Water System will consist of surface water diversion and water treatment facilities at San Ildefonso Pueblo on the Rio Grande and storage tanks, transmission and distribution pipelines, and aquifer storage and recovery well fields that will supply up to 4,000 acre-feet of water annually to customers within the Pojoaque Basin.

FOR FURTHER INFORMATION CONTACT: For further information and/or to have your name added to the mailing list, please contact Marsha Carra, Bureau of Reclamation, Albuquerque Area Office, 555 Broadway NE., Suite 100, Albuquerque, New Mexico 87102; telephone (505) 462-3602; facsimile (505) 462-3780; email mcarra@usbr.gov. Persons who use a telecommunications device for the deaf may call the Federal Information Relay Service (FIRS) at 1-800-877-8339 to contact the above individual during normal business hours. The FIRS is available 24 hours a day, 7 days a week, to leave a message or question with the above individual. You will receive a reply during normal business hours.

SUPPLEMENTARY INFORMATION: This Federal Register notice provides the public with information regarding Reclamation's intent to prepare an EIS pursuant to the National Environmental Policy Act (NEPA) of 1969, as amended.

The Pojoaque Basin Regional Water System is described in and authorized by the Aamodt Litigation Settlement Act (Settlement Act) which is Title VI of the Claims Resolution Act of 2010 (Pub. L. 111-291, Title VI; 124 Stat. 3065). The Settlement Act authorizes implementation of a Settlement Agreement among the United States, the State of New Mexico, the County of Santa Fe, the City of Santa Fe, the four Pueblos, and other non-Pueblo parties, and allows for the annual diversion of up to 4,000 acre-feet of water per year and the construction of the Pojoaque Basin Regional Water System to treat and distribute the water to residents of the Pojoaque Basin. The Settlement Agreement provides for settlement of water rights claims of the Nambé, Pojoaque, San Ildefonso, and Tesuque Pueblos in the Pojoaque Basin.

As described in the Settlement Act, Congress is requiring compliance with relevant laws protecting the environment, including but not limited to NEPA and the Endangered Species Act of 1973. Pursuant to NEPA, Reclamation is preparing an EIS that will describe the existing environment and environmental impacts of the proposed Pojoaque Basin Regional Water System.

Public scoping meetings will be held to solicit comments on the scope of the EIS and the issues and alternatives that should be analyzed. Scoping meetings will be held for Pueblo members at or near each of the four Pueblos. In addition, public scoping meetings will be held in multiple locations in northern New Mexico. Additional information regarding specific dates and times for the upcoming meetings and identification of relevant comment periods will be provided in a future Federal Register notice, in the local news media, and through direct contact with interested parties.

Purpose and Need for Action

The purpose is to provide safe and reliable potable water to the residents of the Pojoaque Basin. The need is to reduce reliance on groundwater and to allow the Pueblos to obtain the water rights provided under the Settlement Act.

Proposed Federal Action

Reclamation proposes to plan, design, and construct the Pojoaque Basin Regional Water System in accordance with the Settlement Agreement and the Settlement Act. The Regional Water System shall divert and distribute water in the Pojoaque Basin and shall consist of surface water diversion facilities at San Ildefonso Pueblo on the Rio Grande, and treatment, transmission, storage and distribution facilities and well fields that are necessary to supply 4,000 acre-feet of water within the Pojoaque Basin in accordance with the Settlement Agreement and the Settlement Act.

Possible Alternatives

Alternatives have not been developed at this time. However, the Settlement Act includes provisions for additional construction proposed and paid for by the four Pueblos, the County of Santa Fe, or a Pojoaque Basin Regional Water Authority. Such additional infrastructure would be designed to fully use the water delivered by the Pojoaque Basin Regional Water System or to improve existing, or develop new, water-related infrastructure.

Nature of Decision To Be Made

The decision to be made is which design alternative for the Pojoaque Basin Regional Water System will be constructed. Note: The information in the EIS regarding water rights will be presented for background and descriptive purposes only. The terms of the parties' water entitlement and use are established under state and Federal law through the Settlement Agreement and nothing in the EIS is intended to suggest that any of those provisions are subject to reconsideration, litigation, or alteration through the NEPA process.

Public Disclosure

Before including a name, address, telephone number, email address, or other personal identifying information in the comment, please be advised that the entire comment—including personal identifying information—may be made publicly available at any time. While a commenter may request that Reclamation withhold personal identifying information from public review, Reclamation cannot guarantee that they will be able to do so.

Dated: February 14, 2012.
Larry Walkoviak,
Regional Director—Upper Colorado Region, Bureau of Reclamation.

[FR Doc. 2012-4293 Filed 2-23-12; 8:45 am]

BILLING CODE 4310-MN-P